DEPARTMENT OF TRANSPORTATION

Office of the Secretary

Aviation Proceedings, Agreements Filed During the Week Ending July 12, 2002

The following Agreements were filed with the Department of Transportation under the provisions of 49 U.S.C. 412 and 414. Answers may be filed within 21 days after the filing of the application.

Docket Number: OST-2002-12778.

Date Filed: July 11, 2002.

Parties: Members of the International Air Transport Association.

Subject: PTC2 EUR-ME 0140 dated 9 July 2002, TC2 Europe-Middle East Expedited Resolution 002ii, Special Passenger Amending Resolution r1-r6, Intended effective date: 15 August 2002.

Docket Number: OST-2002-12779.

Date Filed: July 11, 2002.

Parties: Members of the International Air Transport Association.

Subject: PTC3 0575 dated 12 July 2002, Mail Vote 224—Resolution 010w, TC3 between Japan/Korea and South East Asia, Special Passenger Amending Resolution between China, (excluding Hong Kong SAR and Macau SAR) and Japan, Intended effective date: 28 August 2002.

Dorothy Y. Beard,
Federal Register Liaison.

[FR Doc. 02-18476 Filed 7-22-02; 8:45 am]

BILLING CODE 4910-62-P